DEPARTMENT OF EDUCATION

Notice of Submission for OMB Review; Office of Innovation and Improvement; Transition to Teaching Evaluation

SUMMARY: The Transition to Teaching (TTT) grant program provides five-year grants to eligible applicants to develop and implement a comprehensive approach to recruit, select, prepare, place, certify, support, and retain mid-career professionals, including highly qualified paraprofessionals, and recent college graduates.

DATES: Interested persons are invited to submit comments on or before May 10, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04794. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Transition to Teaching Evaluation.

OMB Control Number: 1855-0018.

Type of Review: Extension.

Total Estimated Number of Annual Responses: 42.

Total Estimated Number of Annual Burden Hours: 42.

Abstract: This is a request for approval to collect information from TTT grantees that will be used to describe the extent to which local education agencies that received TTT grant funds have met the goals relating to teacher recruitment and retention described in their application. TTT grantees are funded for a period of five years. Currently, grantees are required by statute to submit an interim project evaluation to the U.S. Department of Education (ED) at the end of the third project year and a final project evaluation at the project's end. In turn, the TTT program is required to prepare and submit to the Secretary and to Congress interim and final program evaluations containing the results of these grantee project evaluation reports. An analysis of these reports has provided some data on grantee activities, prior to the usage of the TTT survey, missing or incomplete data made it difficult to aggregate data across grantees in order to accurately describe to Congress the extent of program implementation. This data collection allows ED to gather data on a common set of indicators across grantees in order to describe and improve program inplementation with the end goal of improving program performance.

Dated: April 4, 2012.
Darrin A. King,
Director, Information Collection Clearance Division, Privacy, Information and Records Management Services, Office of Management.

[FR Doc. 2012-8576 Filed 4-9-12; 8:45 am]

BILLING CODE 4000-01-P